DEPARTMENT OF LABOR

Employment and Training Administration

Comment Request for Information Collection: Program Reporting and Performance Standards System for Indian and Native American Programs Under the Workforce Investment Act (WIA); Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed. Currently, ETA is soliciting comments concerning the continued collection of data to comply with program reporting and recordkeeping requirements of the Indian and Native American programs as authorized under Public Law 105-220, Workforce Investment Act of 1998 (WIA), section 166. Each grantee administering funds under the Indian and Native American programs is required to submit a Comprehensive Services Program (CSP) Report (ETA 9084), the Standardized Participant Information Record (SPIR), and a Supplemental Youth Services (SYS) Program Report (ETA 9085). The ETA 9085 will collect information on the number of youth served between the ages of 14-21 rather than between the ages of 14-24. Also, the ETA 9084 and 9085 will now reflect the number of eligible veterans and spouses served. The current expiration date for this data collection is May 31, 2013.

DATES: Written comments must be submitted to the office listed in the addresses section below on or before May 28, 2013.

ADDRESSES: Submit written comments to Evangeline M. Campbell, Division of Indian and Native American Programs, Room S4209, Employment and Training Administration, U.S. Department of Labor, 200 Constitution Avenue NW., Washington, DC 20210. Telephone number: 202-693-3737 (this is not a toll-free number). Individuals with hearing or speech impairments may access the telephone number above via TTY by calling the toll-free Federal Information Relay Service at 1-877-889-5627 (TTY/TDD). Fax: 202-693-3817. Email: Campbell.evangeline@dol.gov. A copy of the proposed information collection request (ICR) can be obtained by contacting the office listed above.

SUPPLEMENTARY INFORMATION:

I. Background

Each Indian and Native American (INA) grantee receiving WIA, Section 166 funds (excluding Pub. L. 102-477 grantees) to administer the Comprehensive Services Program (CSP) is required to submit a CSP Report (ETA Form 9084) on a quarterly basis. Grantees receiving WIA Section 166 Supplemental Youth Services Program (SYSP) funds (excluding Pub. L. 102-477 grantees) currently submit a SYSP Report (ETA Form 9085) quarterly. This request to modify and extend the existing ETA Form 9084 and 9085 reports submitted each quarter by INA grantees is based on the following:

1. The Employment and Training Administration (ETA) requires the collection and reporting of data on eligible persons served under the WIA, Section 166 CSP and SYSP to assess the performance and delivery of services.

2. In addition, ETA requests a reporting enhancement for both the ETA 9084 and 9085 program reporting forms to comply with 2002 Jobs For Veterans Act (JVA) (Pub. L. 107-288), and its regulations, Priority of Service for Covered Persons (20 CFR 1010), and ETA policy (TEGL No. 10-09). The inclusion of reporting on JVA and veterans and eligible spouses to the reporting system allows the WIA, Section 166 grantee community, and ETA, an improved mechanism to track the provision of services provided by the WIA CSP and SYSP to the Native American veteran and eligible spouse population. This additional change is an enhancement to the reporting system on demographics and is not a performance-related element.

3. Finally, the American Recovery and Reinvestment Act of 2009 (ARRA) expanded the youth eligibility age to 14-24. ETA 9085 will now collect the number of youth served between the ages of 14-21, per WIA section 101(13).

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with revisions.

Title: Program Reporting and Performance Standards System for Indian and Native American Programs.

OMB Number: 1205-0422.

Affected Public: Tribal Governments and Non-Profits.

Form(s): ETA 9084, ETA 9085.

Total Annual Responses: 19,908.

Annual Frequency: Quarterly.

Total Annual Respondents: 122 and 81.

Average Time per Response: 24 hours for ETA 9084; 24 hours for ETA 9085; 2.5 hours for the SPIR.

Estimated Total Annual Burden Hours: 20,908.

Total Annual Burden Cost for Respondents: $1,465,725.

Comments submitted in response to this comment request will be summarized and/or included in the request for OMB approval of the ICR and will also become a matter of public record.

Dated: Signed in Washington, DC, on this 22nd day of March, 2013.
Jane Oates,
Assistant Secretary for Employment and Training, Labor.

[FR Doc. 2013-07200 Filed 3-27-13; 8:45 am]

BILLING CODE 4510-FN-P